DEPARTMENT OF AGRICULTURE

Rural Utilities Service

7 CFR Part 1739

RIN 0572-AC09

Community Connect Broadband Grant Program

AGENCY: Rural Utilities Service, USDA.

ACTION: Proposed rule.

SUMMARY: The Rural Utilities Service, an agency delivering the United States Department of Agriculture's Rural Development Utilities Program, hereinafter referred to as Rural Development and/or the Agency, is issuing proposed regulations to amend its Community-Oriented Connectivity Broadband Grant Program (Community Connect Broadband Grant Program). The Agency has determined that expanding the resource materials used to determine community eligibility for the program will result in a larger number of eligible communities. In addition, Rural Development has changed the test for economic hardship, allowing the applicant community's median household income to be compared to that of its state, which is also expected to increase the number of eligible applicants. Lastly, the Agency is proposing to amend its regulations to specify operating expenses which are approved for grant funding. This proposed rule is not applicable to Community Connect grant applications filed for funding during fiscal year 2007.

In the Rules and Regulations section of this Federal Register, the Agency is publishing this action as a direct final rule without prior proposal because the Agency views this as a non-controversial action and anticipates no adverse comments. If no adverse comments are received in response to the direct final rule, no further action will be taken on this proposed rule and the action will become effective at the time specified in the direct final rule. If the Agency receives adverse comments, a timely document will be published in the Federal Register and all public comments received will be addressed in a subsequent final rule on this action.

DATES: Comments on this proposed rule must be received by the Agency or carry a postmark or equivalent no later than September 4, 2007.

ADDRESSES: Submit comments by either of the following methods:

• Federal eRulemaking Portal: Go to http://www.regulations.gov and, in the lower “Search Regulations and Federal Actions” box, select “Rural Utilities Service” from the agency drop-down menu, then click on “Submit.” In the Docket ID column, select RUS-07-Telecom-0008 to submit or view public comments and to view supporting and related materials available electronically. Information on using Regulations.gov, including instructions for accessing documents, submitting comments, and viewing the docket after the close of the comment period, is available through the site's “User Tips” link.

• Postal Mail/Commercial Delivery: Please send your comment addressed to Michele Brooks, Acting Deputy Director, Program Development and Regulatory Analysis, USDA Rural Development, STOP 1522, Room 5159, 1400 Independence Avenue, Washington, DC 20250-1522. Please state that your comment refers to Docket No. RUS-07-Telecom-0008.

Other Information: Additional information about Rural Development and its programs is available at http://www.rurdev.usda.gov/index.html.

FOR FURTHER INFORMATION CONTACT: Kenneth Kuchno, Director, Broadband Division, USDA Rural Development Utilities Program, STOP 1599, 1400 Independence Avenue, SW., Washington, DC 20250-1599, Telephone (202) 690-4673, Facsimile (202) 690-4389. E-mail address: kenneth.kuchno@usda.gov.

SUPPLEMENTARY INFORMATION: For applicable supplementary information on this action, see the SUPPLEMENTARY INFORMATION provided in the direct final rule located in the Rules and Regulations section of this Federal Register.

Dated: July 19, 2007.
James M. Andrew,
Administrator, Rural Utilities Service.

[FR Doc. E7-15108 Filed 8-2-07; 8:45 am]

BILLING CODE 3410-15-P